DEPARTMENT OF DEFENSE

Department of the Army, Corps of Engineers

Intent to Prepare an Environmental Impact Statement for the Ala Wai Canal Project, Hawaii

AGENCY: Department of the Army, U.S. Army Corps of Engineers, DoD.

ACTION: Notice of intent.

SUMMARY: Pursuant to the National Environmental Policy Act (NEPA), the U.S. Army Corps of Engineers and the State of Hawaii Department of Land and Natural Resources will prepare an Environmental Impact Statement (EIS) for the alternatives and potential impacts associated with the Ala Wai Canal Project Feasibility Study. This effort could result in a multi-purpose project being proposed under Section 209 of the Flood Control Act of 1962 (Pub. L. 87-874) and will incorporate both flood hazard reduction and ecosystem restoration components into a single, comprehensive strategy.

DATES: In order to be considered in the draft EIS (DEIS), comments and suggestions should be received no later than July 14, 2004.

ADDRESSES: Send written comments to U.S. Army Corps of Engineers, Honolulu District, ATTN: Mr. Derek Chow, Senior Project Manager, Civil and Public Works Branch (CEPOH-PP-C), Rm 312, Bldg 230, Fort Shafter, HI 96858-5440.

FOR FURTHER INFORMATION CONTACT: Questions or comments concerning the proposed action should be addressed to Mr. Derek Chow, Project Manager, U.S. Army Corps of Engineers, Honolulu District, Civil Works Branch, Building 230, Fort Shafter, HI 96858-5440, telephone 808-438-7019, E-mail: Derek.J.Chow@poh01.usace.army.mil or Mr. Andrew Monden, Planning Branch Head, State of Hawaii Department of Land and Natural Resources, Engineering Division, P.O. Box 373, Honolulu, HI 96809, telephone 808-587-0227, E-mail: Andrew.M.Monden@hawaii.gov.

SUPPLEMENTARY INFORMATION: The 11,069-acre Ala Wai watershed is located in the southern portion of the island of Oahu and includes the sub-watersheds of Makiki, Manoa, Palolo, and Waikiki. Approximately 1,746 structures exist within the designated 100-year flood plain. The proposals being investigated incorporate both flood hazard reduction and ecosystem restoration into a single, comprehensive strategy. The Ala Wai Canal watershed is highly urbanized and characterized by significant environmental degradation, including heavy sedimentation, poor water quality, lack of habitat for native species, and a prevalence of alien species. Additionally, there exists a high potential for massive flood damage to the densely populated and economically critical area of Waikiki and the adjacent neighborhoods of McCully and Moilili. The EIS and the Feasibility Study for the Ala Wai Canal Project will be conducted concurrently. The EIS will evaluate potential impacts to the natural, physical, and human environment as a result of implementing any of the proposed flood hazard reduction and ecosystem restoration alternatives arising during the study.

Goals of the Ala Wai Canal Feasibility Study are to identify alternatives that will (1) Protect Waikiki and the surrounding areas from the 100-year flood event, (2) improve the migratory pathway for native amphidromous species, (3) reduce sediment buildup in the streams and Ala Wai Canal, and (4) enhance the physical quality of existing aquatic habitat for native species. Anticipated significant issues identified to date and to be addressed in the EIS include: (1) Impacts on flood control, (2) impacts on stream hydraulics, (3) impacts on fish and wildlife resources and habitats, (4) impacts on recreation and recreation facilities, and (5) other impacts identified by the Public, agencies, or USACE studies. Evaluation of the flood hazard reduction alternatives will take into account a cost-benefit analysis and minimization of impacts to social resources, aesthetics, recreation, historic and cultural resources, and native species habitat. Evaluation of the ecosystem restoration alternatives will be based on the area of habitat they create, improve, or provide access to, as well as their ability to complement flood hazard reduction measures and minimize adverse impacts to social, economic, cultural, historic, and recreational resources.

A public scoping meeting will be held in the summer of 2004. The date and time of this meeting will be announced in general media and will be at a time and location convenient to the public. Interested parties are encouraged to express their views during the scoping process and throughout the development of the alternatives and the EIS. To be most helpful, comments should clearly describe specific environmental topics or issues which the commenter believes the document should address.

The DEIS is anticipated to be available for public review in early 2005, subject to the receipt of federal funding.

Brenda S. Bowen,
Alternate Army Federal Register Liaison Officer.

[FR Doc. 04-13271 Filed 6-10-04; 8:45 am]

BILLING CODE 3710-NN-M